DEPARTMENT OF ENERGY

Federal Energy Regulatory Commission

[Docket No. CP01-103-000]

Transcontinental Gas Pipe Line Corporation; Notice of Application

March 19, 2001.

Take notice that on March 12, 2001, Transcontinental Gas Pipe Line Corporation (Transco), Post Office Box 1396, Houston, Texas 42301, in Docket No. CP01-103-000 filed an application pursuant to section 7(b) of the Natural Gas Act for permission and approval for Transco to abandon certain pipeline facilities, located largely in offshore Texas and Louisiana, which are portions of the North High Island/West Cameron Gathering System by transfer to Williams Gas Processing-Gulf Coast Company, L.P. (WGP), an affiliate of Transco, all as more fully set forth in the application which is on file with the Commission and open to public inspection. This filing may be viewed on the web at http://www.ferc.fed.us/online/rims.htm (call 202-208-2222 for assistance).

Transco proposes to abandon (1) 217.128 miles of 4-to-30-inch pipeline, (2) the Johnson Bayou Plant, consisting of Station 44 separation and dehydration facilities and 1,200 horsepower of compression, located in Cameron Parish, Louisiana, (3) Station 44 Compression, consisting of three 3,830 horsepower Solar Centaur Engines for a total of 11,490 horsepower, also located in Cameron Parish, Louisiana, and (4) minor compression owned on Shell's High Island Block 179-L, Offshore Texas. Transco advises that the facilities will be transferred at net book value, which has been calculated at $21,180,514 as of December 31, 2000.

Transco also requests authorization to abandon its Rate Schedules X-143 (service with ANR Pipeline Company) and X-249 (service with Columbia Gulf Transmission Company), as well as receipt points included on a firm transportation agreement with Motiva Enterprises, LLC. It is indicated that Transco will amend the affected service agreements and file the necessary conforming changes to its FERC Gas Tariff.

WGP has concurrently filed a petition for a declaratory order in Docket No. CP01-104-000, requesting that the Commission determine that WGP's acquisition, ownership, and operation of the facilities at issue not subject WGP or any portion of WGP's facilities, rates, or services to the jurisdiction of the Commission under the Natural Gas Act.

Any questions regarding the application should be directed to Randall R. Conklin, Vice President and General Counsel, and Gisela Cherches, Senior Attorney at (713) 215-2000, Transcontinental Gas Pipe Line Corporation, P.O. Box 1396, Houston, Texas 77251.

There are two ways to become involved in the Commission's review of this project. First, any person wishing to obtain legal status by becoming a party to the proceedings for this project should, on or before April 9, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding.

Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Also, comments protests, and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-7277 Filed 3-22-01; 8:45 am]

BILLING CODE 6717-01-M